DEPARTMENT OF DEFENSE

Department of the Air Force

[Docket ID: USAF-2020-HQ-0007]

Proposed Collection; Comment Request

AGENCY: Department of the Air Force, Department of Defense (DoD).

ACTION: Information collection notice.

SUMMARY: In compliance with the Paperwork Reduction Act of 1995, the Department of the Air Force, Director of Bases, Ranges, and Airspace, Directorate of Operations, Deputy Chief of Staff, Operations, Plans and Requirements, announces a proposed reinstatement of a public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 28, 2020.

ADDRESSES: You may submit comments, identified by docket number and title, by any of the following methods:

• Federal eRulemaking Portal: http://www.regulations.gov. Follow the instructions for submitting comments.

• Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the HQ USAF/A3OJ, 112 Luke Avenue, Suite 340, JBAB DC, 20032-6400, ATTN: Mr. James Rogers, or call 202-404-7886.

SUPPLEMENTARY INFORMATION: Title; Associated Form; and OMB Number: Civil Aircraft Landing Permit System; DD Form 2400, DD Form 2401, DD Form 2402; OMB Number 0701-0050.

Needs and Uses: The information collection requirement is necessary to ensure that the security and operational integrity of military airfields are maintained; to identify the aircraft operator and the aircraft to be operated; to avoid competition with the private sector by establishing the purpose for use of military airfields; and to ensure the U.S. government is not held liable if the civil aircraft becomes involved in an accident or incident while using military airfields, facilities, and services.

Affected Public:

DD 2400: Businesses and Private Sector.

DD 2401: Individuals and Households.

DD 2402: Individuals and Households.

Annual Burden Hours:

DD 2400: 300 hours.

DD 2401: 300 hours.

DD 2402: 300 hours.

Total Annual Burden Hours: 900.

Number of Respondents:

DD 2400: 1,800.

DD 2401: 1,800.

DD 2402: 1,800.

Total Number of Respondents: 5,400.

Responses per Respondent:

DD 2400: 1.

DD 2401: 1.

DD 2402: 1.

Average Burden per Response:

DD 2400: 10 minutes.

DD 2401: 10 minutes.

DD 2402: 10 minutes.

Total Average Burden per Response: 10 minutes.

Frequency: On occasion.

Respondents are civil aircraft owners/operators who are requesting authorized landings at DoD airfields. These requestors are required to submit the indicated DD Forms (2400, 2401, and 2402). The completed forms included are maintained by HQ USAF/A3OJ for 2 years for any required review. These forms ensure only authorized civil aircraft owners/operators are authorized access to DoD airfields.

Dated: May 22, 2020.
Aaron T. Siegel,
Alternate OSD Federal Register Liaison Officer, Department of Defense.

[FR Doc. 2020-11526 Filed 5-28-20; 8:45 am]

BILLING CODE 5001-06-P